DEPARTMENT OF COMMERCE

Foreign-Trade Zones Board

[Docket 46-2006]

Foreign-Trade Zone 222—Montgomery, AL; Request for Manufacturing Authority; Arvin Meritor, Inc. (Automotive Parts)

An application has been submitted to the Foreign-Trade Zones Board (the Board) by the Montgomery Area Chamber of Commerce, grantee of FTZ 222, requesting authority on behalf of Arvin Meritor, Inc. (Arvin Meritor) to manufacture automotive parts under FTZ procedures within FTZ 222. The application was filed on December 5, 2006.

Arvin Meritor operates a facility (150 employees, annual capacity for up to 1.5 million door modules) within Site 1 of FTZ 222 located at 139 Folmar Parkway, within the Interstate Industrial Park. The proposed manufacturing activity would involve the use of foreign-sourced components (initially representing 42% of total materials) to produce door modules for the Hyundai Motor Manufacturing Alabama, LLC plant (SZ 222A). Components include latch assemblies, adaptors and retainers, guide rails, handle brackets, module panels, pulleys, drums and drum parts, clamp assemblies, support brackets, carrier plates, screws, spacers, washers, grommets, rivets and stoppers.

FTZ procedures would exempt Arvin Meritor from Customs duty payments on the foreign components used in production for export to non-NAFTA countries. On domestic shipments transferred in-bond to U.S. automotive assembly plants with subzone status, no duties would be paid on the foreign-origin components used in automobile and light truck production until the finished vehicles are formally entered for consumption, at which time the finished automobile duty rate (2.5%) would be applied to the foreign-origin components. For the individual door modules withdrawn directly by Arvin Meritor for Customs entry, the finished automotive part rate (2.5%) could be applied to the foreign origin components (duty-free to 8.5%). The company indicates that it would also realize savings under FTZ procedures for the following reasons: duty deferral, duty exemption on scrap/waste, and logistical/paperwork efficiencies.

Public comment is invited from interested parties. Submissions (original and 3 copies) shall be addressed to the Board's Executive Secretary at the address below. The closing period for their receipt is February 12, 2007. Rebuttal comments in response to material submitted during the foregoing period may be submitted during the subsequent 15-day period to February 27, 2007.

A copy of the application and accompanying exhibits will be available for public inspection at each of the following locations: U.S. Department of Commerce Export Assistance Center, U.S. Department of Commerce Export Assistance Center, 950 22nd Street North, Suite 707, Birmingham, Alabama 35203; and, Office of the Executive Secretary, Foreign-Trade Zones Board, Room 2814B, U.S. Department of Commerce, 1401 Constitution Avenue, NW., Washington, DC 20230-0002; Tel: (202) 482-2862.

Dated: December 5, 2006.
Pierre V. Duy,
Acting Executive Secretary.

[FR Doc. E6-21325 Filed 12-13-06; 8:45 am]

BILLING CODE 3510-DS-P